DEPARTMENT OF HOMELAND SECURITY

Federal Emergency Management Agency

44 CFR Part 67

[Docket No. FEMA-P-7913]

Proposed Flood Elevation Determinations

AGENCY: Federal Emergency Management Agency (FEMA), Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location of referenced elevation | ◆ Elevation in feet (NAVD): Existing | ◆ Elevation in feet (NAVD): Modified | Communities affected
Bull Creek:
Approximately 480 feet upstream of the confluence with the Marais des Cygnea River | None | 837 | City of Paola, Miami County, (Unincorporated Areas).
Approximately 11,250 feet upstream of the confluence of Ten Mile Creek | None | 874
Hickory Creek:
At the confluence with Bull Creek | 859 | 857 | City of Paola, Miami County, (Unincorporated Areas).
Approximately 185 feet downstream of South East Street | None | 867
Marais Des Cygnes River:
At the confluence of Pottawatomie Creek | None | 858 | City of Osawatomie, Miami County, (Unincorporated Areas).
Approximately 6,800 feet upstream of Eighth Street | None | 863
Middle Creek:
At the southern county boundary | None | 823 | Miami County, (Unincorporated Areas).
Approximately 2,880 feet upstream of Jingo Road | None | 946
M.K.T. Tributary to Bull Creek:
At the confluence with Bull Creek | 868 | 864 | City of Paola, Miami County, (Unincorporated Areas).
Approximately 40 feet downstream of the Union Pacific Railroad | 868 | 867
North Wea Creek:
At the confluence with South Wea Creek | None | 889 | Miami County, (Unincorporated Areas).
At West 215th Street | None | 1,073
Pottawatomie Creek:
At the confluence with Marais Des Cygnes River | None | 859 | City of Osawatomie, Miami County, (Unincorporated Areas).
Approximately 4,920 feet upstream of the confluence with Marais Des Cygnes River | None | 859
South Wea Creek:
At the confluence with Bull Creek | None | 854 | City of Louisburg, City of Paola, Miami County, (Unincorporated Areas).
At Metcalf Road | None | 983
Sweetwater Creek:
At the confluence with Ten Mile Creek | None | 921 | Miami County, (Unincorporated Areas).
At West 215th Street | None | 987
Ten Mile Creek:
At the confluence with Bull Creek | None | 871 | Miami County, (Unincorporated Areas).
At West 215th Street | None | 1,048
Tributary to Hickory Creek:
At the confluence with Hickory Creek | 859 | 857 | City of Paola.
Approximately 30 feet downstream of East Osage Street | 859 | 858
ADDRESSES
City of Louisburg, Miami County, Kansas.
Maps are available for inspection at City Hall, 5 South Peoria, Suite 102, Louisburg, Kansas.
Send comments to The Honorable Arlene Thompson, Mayor, City of Louisburg, City Hall, 5 South Peoria, Suite 102, Louisburg, Kansas 66071.
City of Osawatomie, Miami County, Kansas.
Maps are available for inspection at City Hall, 439 Main Street, Osawatomie, Kansas.
Send comments to The Honorable Tom Speck, Mayor, City of Osawatomie, 439 Main Street, Osawatomie, Kansas 66064.
City of Paola, Miami County, Kansas.
Maps are available for inspection at City Hall, 19 East Peoria, Paola, Kansas.
Send comments to The Honorable Artie Stuteville, Mayor, City of Paola, City Hall, 19 East Peoria, Paola, Kansas 66071.
Unincorporated Areas of Miami County, Kansas.
Maps are available for inspection at Miami County Administration Building, 201 South Pearl Street, Suite 201, Paola, Kansas.
Send comments to The Honorable Art Godfrey, Chairman, Miami County Board of Commissioners, Miami County Administration Building, 201 South Pearl Street, Suite 200, Paola, Kansas 66071.
◆ North American Vertical Datum of 1988.

Source of flooding and location of referenced elevation | ♢ Elevation in feet (NAVD): Existing | ♢ Elevation in feet (NAVD): Modified | Communities affected
Middle Fork Salt River:
Approximately 3,200 feet downstream of Florida Street | None | 646 | Monroe County, (Unincorporated Areas). City of Paris.
Approximately 4,640 feet upstream of State Highway 15 | None | 654
Payne Branch:
At the confluence with Middle Fork Salt River, approximately 1,400 feet downstream of Caldwell Street | None | 647 | City of Paris.
Approximately 1,510 feet upstream of Hickory Street | None | 694
West Fork Payne Branch:
At the confluence with Payne Branch, approximately 600 feet downstream of Combs Street | None | 663 | City of Paris.
Approximately 1,540 feet upstream of Combs Street | None | 693
ADDRESSES
Unincorporated area of Monroe County, Missouri.
Maps are available for inspection at the Community Map Repository, Monroe County Courthouse, 300 North Main Street, Paris, Missouri.
Send comments to Mr. Donald Simpson, Presiding Commissioner, Monroe County Courthouse, 300 North Main Street, Paris, Missouri 65275-1399.
City of Paris, Monroe County, Missouri.
Maps are available for inspection at the Community Map Repository, City of Paris, 124 West Caldwell Street, Paris, Missouri.
Send comments to The Honorable Russell Peterson, Mayor, City of Paris, 124 West Caldwell Street, Paris, Missouri 65275-1397.
♢ North American Vertical Datum of 1988.

(Catalog of Federal Domestic Assistance No. 83.100, “Flood Insurance”)

Dated: February 2, 2006.
David I. Maurstad,
Acting Director, Mitigation Division, Federal Emergency Management Agency, Department of Homeland Security.

[FR Doc. 06-1344 Filed 2-13-06; 8:45 am]

BILLING CODE 9110-12-P